FEDERAL RETIREMENT THRIFT INVESTMENT BOARD

Sunshine Act Meetings

TIME AND DATE: 9:00 a.m. (Eastern Time), March 25, 2013.

PLACE: 10th Floor Board Meeting Room, 77 K Street NE., Washington, DC 20002.

STATUS: Parts will be open to the public and parts closed to the public.

MATTERS TO BE CONSIDERED:

Parts Open to the Public

1. Approval of the Minutes of the February 25, 2013 Board Member Meeting.

2. Thrift Savings Plan Activity Reports by the Executive Director.

a. Monthly Participant Activity Report.

b. Monthly Investment Report.

c. Legislative Report.

3. Shareholder Actions.

4. Demographics Report.

5. Audit Reports and DOL Presentation.

Parts Closed to the Public

1. Security.

CONTACT PERSON FOR MORE INFORMATION: Kimberly Weaver, Director, Office of External Affairs, (202) 942-1640.

Dated: March 15, 2013.
James B. Petrick,
Secretary, Federal Retirement Thrift Investment Board.

[FR Doc. 2013-06363 Filed 3-15-13; 11:15 am]

BILLING CODE 6760-01-P